DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species Dealer Reporting Family of Forms.

OMB Control Number: 0648-0040.

Form Number(s): 88-14.

Type of Request: Regular submission (renewal of an existing information collection).

Number of Respondents: 1,832.

Average Hours per Response: Catch documents, export/re-export certificates and statistical documents, 5 minutes; validation of these documents, 15 minutes; nongovernmental validation authorization, 2 hours; Atlantic bluefin tuna daily landing report and tag, 3 minutes; biweekly landing reports, 15 minutes; biweekly negative landing reports, 15 minutes.

Burden Hours: 6,735.

Needs and Uses: Under the provisions of the Magnuson-Stevens Fishery Conservation and Management Act (16 U.S.C. 1801 et seq.), the National Marine Fisheries Service (NMFS) is responsible for management of the Nation's marine fisheries. NMFS must also carry out, as necessary and appropriate, obligations the United States undertakes internationally regarding tuna management through the Atlantic Tunas Convention Act (16 U.S.C. 971 et seq.). NMFS must collect domestic landings data for Atlantic highly migratory species via dealer reports in order to provide information vital for fishery management. In addition, the United States must monitor the import, export, and re-export of bluefin tuna, frozen bigeye tuna, and swordfish in order to comply with international obligations established through membership in the International Commission for the Conservation of Atlantic Tunas (ICCAT). ICCAT has implemented a trade monitoring program for bluefin tuna, frozen bigeye tuna, and swordfish to discourage illegal, unregulated, and unreported fishing activities as well as to further understand catches of and international trade in these species. Similar objectives are the basis for the Southern bluefin tuna trade monitoring program established by the Commission for the Conservation of Southern Bluefin Tuna (CCSBT). Although the United States is not a member of the CCSBT, effective management of the Southern bluefin tuna resource is in the best interest of affected parties in the United States. Thus, the United States has implemented the CCSBT trade monitoring program, along with the analogous ICCAT programs.

This collection serves as a family of forms for Atlantic highly migratory species dealer reporting requirements, including the purchase of highly migratory species from fishermen, and the import, export, and/or re-export of highly migratory species.

Affected Public: Business or other for-profit organizations.

Frequency: Daily, biweekly and on occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 14, 2010.
Gwellnar Banks,
Management Analyst, Office of the Chief Information Officer.

[FR Doc. 2010-26277 Filed 10-18-10; 8:45 am]

BILLING CODE 3510-22-P